DEPARTMENT OF TRANSPORTATION

Federal Aviation Administration

14 CFR Part 39

[Docket No. FAA-2025-0209; Project Identifier MCAI-2024-00636-E]

RIN 2120-AA64

Airworthiness Directives; Safran Helicopter Engines, S.A. (Type Certificate Previously Held by Turbomeca, S.A.) Engines

AGENCY: Federal Aviation Administration (FAA), DOT.

ACTION: Notice of proposed rulemaking (NPRM).

SUMMARY: The FAA proposes to adopt a new airworthiness directive (AD) for all Safran Helicopter Engines, S.A. (Safran) Model ARRIUS 2B2 engines. This proposed AD was prompted by a manufacturer review of collected data from in-service engines that indicated the preference injector may clog over time caused by fuel coking, which decreases the permeability of the preference injector. This proposed AD would require initial and repetitive non-extinguishing tests for engine flameout and replacement of the preference injector if necessary, a one-time modification (software upgrade) of the electronic engine control unit (EECU) and, for certain engines, repetitive replacements of the preference injector, as specified in a European Union Aviation Safety Agency (EASA) AD, which is proposed for incorporation by reference. The FAA is proposing this AD to address the unsafe condition on these products.

DATES: The FAA must receive comments on this NPRM by April 11, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0209; or in person at Docket Operations between 9 a.m. and 5 p.m., Monday through Friday, except Federal holidays. The AD docket contains this NPRM, the mandatory continuing airworthiness information (MCAI), any comments received, and other information. The street address for Docket Operations is listed above.

Material Incorporated by Reference:

• For EASA material identified in this proposed AD, contact EASA, Konrad-Adenauer-Ufer 3, 50668 Cologne, Germany; phone: +49 221 8999 000; email: ADs@easa.europa.eu. You may find this material on the EASA website at ad.easa.europa.eu.

• You may view this material at the FAA, Operational Safety Branch, 1200 District Avenue, Burlington, MA 01803. For information on the availability of this material at the FAA, call (817) 222-5110.

FOR FURTHER INFORMATION CONTACT: David Bergeron, Aviation Safety Engineer, FAA, 1600 Stewart Avenue, Suite 410, Westbury, NY 11590; phone: (860) 386-1805; email: david.j.bergeron@faa.gov.

SUPPLEMENTARY INFORMATION:

Comments Invited

The FAA invites you to send any written relevant data, views, or arguments about this proposal. Send your comments to an address listed under ADDRESSES. Include “Docket No. FAA-2025-0209; Project Identifier MCAI-2024-00636-E” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to David Bergeron, Aviation Safety Engineer, FAA, 1600 Stewart Avenue, Suite 410, Westbury, NY 11590. Any commentary that the FAA receives which is not specifically designated as CBI will be placed in the public docket for this rulemaking.

Background

EASA, which is the Technical Agent for the Member States of the European Union, has issued EASA AD 2024-0195, dated October 18, 2024 (EASA AD 2024-0195), to correct an unsafe condition on all Safran Model ARRIUS 2B2 engines. EASA AD 2024-0195 states that a manufacturer review of collected data from in-service engines indicated that the preference injector may clog over time caused by fuel coking, which could decrease the permeability of the preference injector. EASA AD 2024-0195 also specifies non-extinguishing tests and replacements of the preference injector at reduced intervals, and upgrade of the EECU software based on two manufacturer design changes which, in combination, reduce the clogging rate, but do not mitigate the potential of the unsafe condition. The manufacturer also issued service information that provided instructions for a non-extinguishing test and replacement of the preference injector at shorter intervals than specified in the Engine Maintenance Manual. The manufacturer then developed an EECU software upgrade (modification TU 173) for certain engines installed on certain helicopters, which allows automatic accomplishment of the non-extinguishing test, and published service information providing instructions to embody the software upgrade on in-service engines. Based on this, EASA revised EASA AD-2024-0195 and issued EASA AD 2024-0195R1, dated October 22, 2024 (EASA AD 2024-0195R1) (also referred to as the MCAI), to retain all actions from EASA AD 2024-0195 and amend the applicable groups, because modification TU 173 is applicable only to engines installed on AHD EC135T2, EC135T2+, EC635T2, or EC635T2+ helicopters.

Clogging of the preference injector, if not detected and corrected, and if combined with a sharp reduction in the fuel flow during the flight after a pilot command, could lead to a flame out in the combustion chamber, which could result in an uncommanded in-flight shut-down of the engine and reduced control of the helicopter.

You may examine the MCAI in the AD docket at regulations.gov under Docket No. FAA-2025-0209.

Material Incorporated by Reference Under 1 CFR Part 51

The FAA reviewed EASA AD 2024-0195R1, which specifies procedures for initial and repetitive non-extinguishing tests, a one-time modification (software upgrade) of the EECU, and repetitive replacements of the preference injector. This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this NPRM after determining that the unsafe condition described previously is likely to exist or develop on other products of the same type design.

Proposed AD Requirements in This NPRM

This proposed AD would require accomplishing the actions specified in the material already described, except for any differences identified as exceptions in the regulatory text of this proposed AD.

Explanation of Required Compliance Information

In the FAA's ongoing efforts to improve the efficiency of the AD process, the FAA developed a process to use some civil aviation authority (CAA) ADs as the primary source of information for compliance with requirements for corresponding FAA ADs. The FAA has since coordinated with other manufacturers and CAAs to use this process. As a result, the FAA proposes to incorporate by reference EASA AD 2024-0195R1, in the FAA final rule. This proposed AD would, therefore, require compliance with EASA AD 2024-0195R1, in its entirety through that incorporation, except for any differences identified as exceptions in the regulatory text of this proposed AD. Using common terms that are the same as the heading of a particular section in the EASA AD does not mean that operators need comply only with that section. For example, where the AD requirement refers to “all required actions within the compliance times,” compliance with this AD requirement is not limited to the section titled “Required Action(s) and Compliance Time(s)” in EASA AD 2024-0195R1. Service information required by the EASA AD for compliance will be available at regulations.gov under Docket No. FAA-2025-0209 after the FAA final rule is published.

Costs of Compliance

The FAA estimates that this AD, if adopted as proposed, would affect 186 engines installed on helicopters of U.S. registry.

The FAA estimates the following costs to comply with this proposed AD:

Estimated Costs
Action | Labor cost | Parts cost | Cost per product | Cost on U.S. operators
Initial non-extinguishing test (186 engines) | 1 work-hours × $85 per hour = $85 | $0 | $85 | $15,810
Repetitive non-extinguishing test (54 engines) | 1 work-hours × $85 per hour = $85 | 0 | 85 | 4,590
Injector replacement (186 engines) | 1 work-hours × $85 per hour = $85 | 1,819 | 1,904 | 354,144
EECU software upgrade (132 engines) | 7 work-hours × $85 per hour = $595 | 0 | 595 | 78,540

The FAA estimates the following costs to do any necessary on-condition replacement that would be required based on the results of any required tests. The FAA has no way of determining the number of aircraft that might need this on-condition replacement:

Estimated Costs of On-Condition Actions
Action | Labor cost | Parts cost | Cost per product
Injector replacement | 1 work-hours × $85 per hour = $85 | $1,819 | $1,904

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(f), 40113, 44701.

§ 39.13 [Amended]

2. The FAA amends § 39.13 by adding the following new airworthiness directive:

Safran Helicopter Engines, S.A. (Type Certificate previously held by Turbomeca, S.A.) Docket No. FAA-2025-0209; Project Identifier MCAI-2024-00636-E.

(a) Comments Due Date

The FAA must receive comments on this airworthiness directive (AD) by April 11, 2025.

(b) Affected ADs

None.

(c) Applicability

This AD applies to Safran Helicopter Engines, S.A. (type certificate previously held by Turbomeca, S.A.) Model ARRIUS 2B2 engines.

(d) Subject

Joint Aircraft System Component (JASC) Code 7300, Engine Fuel and Control.

(e) Unsafe Condition

This AD was prompted by a manufacturer review of collected data from in-service engines that indicated the preference injector may clog over time caused by fuel coking, which could decrease the permeability of the preference injector. The FAA is issuing this AD to detect and correct clogging and decreased permeability of the preference injector due to fuel coking. The unsafe condition, if not addressed, when combined with a sharp reduction in fuel flow, could result in a flame out in the combustion chamber, which could result in an uncommanded in-flight shut-down of the engine and reduced control of the helicopter.

(f) Compliance

Comply with this AD within the compliance times specified, unless already done.

(g) Required Actions

Except as specified in paragraphs (h) and (i) of this AD: Comply with all required actions and compliance times specified in, and in accordance with, European Union Aviation Safety Agency (EASA) AD 2024-0195R1, dated October 22, 2024 (EASA AD 2024-0195R1).

(h) Exceptions to EASA AD 2024-0195R1

(1) Where EASA AD 2024-0195R1 refers to its effective date, this AD requires using the effective date of this AD.

(2) This AD does not adopt the “Remarks” section of EASA AD 2024-0195R1.

(i) No Reporting Requirement

Although the material referenced in EASA AD 2024-0195R1 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact David Bergeron, Aviation Safety Engineer, FAA, 1600 Stewart Avenue, Suite 410, Westbury, NY 11590; phone: (860) 386-1805; email: david.j.bergeron@faa.gov.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) European Union Aviation Safety Agency (EASA) AD 2024-0195R1, dated October 22, 2024.

(ii) [Reserved]

(3) For EASA material identified in this AD, contact EASA, Konrad-Adenauer-Ufer 3, 50668 Cologne, Germany; phone: +49 221 8999 000; email: ADs@easa.europa.eu. You may find this material on the EASA website at ad.easa.europa.eu.

(4) You may view this material at the FAA, Operational Safety Branch, 1200 District Avenue, Burlington, MA 01803. For information on the availability of this material at the FAA, call (817) 222-5110.

(5) You may view this material at the National Archives and Records Administration (NARA). For information on the availability of this material at NARA, visit www.archives.gov/federal-register/cfr/ibr-locations or email fr.inspection@nara.gov.

Issued on February 18, 2025.
Victor Wicklund,
Deputy Director, Compliance & Airworthiness Division, Aircraft Certification Service.

[FR Doc. 2025-03013 Filed 2-24-25; 8:45 am]

BILLING CODE 4910-13-P